DEPARTMENT OF AGRICULTURE

U.S. Codex Office

Codex Alimentarius Commission: Meeting of the Codex Committee on Methods and Analysis and Sampling

AGENCY: U.S. Codex Office, USDA.

ACTION: Notice of public meeting and request for comments.

SUMMARY: The U.S. Codex Office is sponsoring a public meeting on April 10, 2025. The objective of the public meeting is to provide information and receive public comments on agenda items to be discussed at the 44th Session of the Codex Committee on Methods and Analysis and Sampling (CCMAS) of the Codex Alimentarius Commission (CAC), which will meet in Budapest, Hungary, from May 5-9, 2025. The U.S. Manager for Codex Alimentarius and the Under Secretary for Trade and Foreign Agricultural Affairs recognize the importance of providing interested parties the opportunity to obtain background information on the 44th Session of the CCMAS and to address items on the agenda.

DATES: The public meeting is scheduled for April 10, 2025, from 1-3 p.m. ET.

ADDRESSES: The public meeting will take place via video teleconference only. Documents related to the 44th Session of the CCMAS will be accessible via the internet at the following address: https://www.fao.org/fao-who-codexalimentarius/committees/committee/related-meetings/en/?committee=CCMAS.

Dr. Patrick Gray, U.S. Delegate to the 44th Session of the CCMAS, invites interested U.S. parties to submit their comments electronically to the following email address: patrick.gray@fda.hhs.gov.

Registration: Attendees may register to attend the public meeting at the following link: https://www.zoomgov.com/meeting/register/aJ47Mg9lQl6jqMN53OPKdA.

After registering, you will receive a confirmation email containing information about joining the meeting.

FOR FURTHER INFORMATION CONTACT: For further information about the 44th Session of the CCMAS, contact the U.S. Delegate, Dr. Patrick Gray, Chemical Contaminants Branch Chief, Human Foods Program, Office of Laboratory Operations and Applied Science, U.S. Food and Drug Administration, by email at: Patrick.Gray@fda.hhs.gov or by phone at: (240) 402-5026. For additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through the adoption of food standards, codes of practice, and other guidelines developed by its committees, and by promoting their adoption and implementation by governments, Codex seeks to protect the health of consumers and ensure fair practices in the food trade.

The Terms of Reference of the Codex Committee on Methods of Analysis and Sampling (CCMAS) are:

(a) to define the criteria appropriate to Codex Methods of Analysis and Sampling;

(b) to serve as a coordinating body for Codex with other international groups working in methods of analysis and sampling and quality assurance systems for laboratories;

(c) to specify, on the basis of final recommendations submitted to it by the other bodies referred to in (b) above, reference Methods of Analysis and Sampling appropriate to Codex Standards which are generally applicable to a number of foods;

(d) to consider, amend, if necessary, and endorse, as appropriate, methods of analysis and sampling proposed by Codex (Commodity) Committees, except that methods of analysis and sampling for residues of pesticides or veterinary drugs in food, the assessment of micro biological quality and safety in food, and the assessment of specifications for food additives, do not fall within the terms of reference of this Committee;

(e) to elaborate sampling plans and procedures, as may be required;

(f) to consider specific sampling and analysis problems submitted to it by the Commission or any of its Committees; and,

(g) to define procedures, protocols, guidelines or related texts for the assessment of food laboratory proficiency, as well as quality assurance systems for laboratories.

The CCMAS is hosted by Hungary. The United States attends the CCMAS as a member country of Codex.

Issues To Be Discussed at the Public Meeting

The following items from the Provisional Agenda for the 44th Session of the CCMAS will be discussed during the public meeting:

• Matters referred to the Committee by the Codex Alimentarius Commission and/or its subsidiary bodies

• Endorsement of methods of analysis provisions and sampling plans in Codex standards

• Review of methods of analysis in CXS 234

• Cocoa products and chocolate workable package

• Fruit juices workable package

• Testing methods: nitrates and nitrites in certain food matrices

• Testing methods: Precautionary allergen labelling

• Harmonization of names and format for principles

• Information document: General Guidelines on Sampling (CXG 50-2004) e-book with sampling plans applications

• Other business and future work

Public Meeting

At the April 10, 2025 public meeting, agenda items will be described and discussed, and attendees will have the opportunity to pose questions and offer comments. Written comments may be offered at the meeting or sent to Dr. Patrick Gray, U.S. Delegate to the 44th Session of the CCMAS, at Patrick.Gray@fda.hhs.gov. Written comments should state that they relate to activities of the 44th Session of the CCMAS.

Additional Public Notification

Public awareness of all segments of rulemaking and policy development is important. Consequently, the U.S. Codex Office will announce this Federal Register publication online through the USDA Codex web page located at: https://www.usda.gov/codex.

Done at Washington, DC, on March 5, 2025.
Julie A. Chao,
Deputy U.S. Manager for Codex Alimentarius.

[FR Doc. 2025-03774 Filed 3-7-25; 8:45 am]

BILLING CODE 3420-3F-P